LEGAL SERVICES CORPORATION

Notice of Availability of Calendar Year 2015 Competitive Grant Funds.

AGENCY: Legal Services Corporation.

ACTION: Solicitation for Proposals for the Provision of Civil Legal Services.

SUMMARY: The Legal Services Corporation (LSC) is the national organization charged with administering federal funds provided for civil legal services to low-income people.

LSC hereby announces that it is reopening the competitive bidding process for FY 2015 funding for service area NJ-12 in New Jersey. Service area NJ-12 is comprised of Ocean and Monmouth Counties in New Jersey. LSC is soliciting grant proposals from interested parties who are qualified to provide effective, efficient and high quality civil legal services to the eligible client population in service area NJ-12 in New Jersey.

The exact amount of congressionally appropriated funds and the date and terms of availability for calendar year 2015 are not known, although it is anticipated that the funding amount will be similar to calendar year 2014 funding, which is $667,151.00.

DATES: See SUPPLEMENTARY INFORMATION section for grants competition dates.

ADDRESSES: Legal Services Corporation—Competitive Grants, 3333 K Street NW., Third Floor, Washington, DC 20007-3522.

FOR FURTHER INFORMATION CONTACT: the Office of Program Performance by email at competition@lsc.gov, or visit the grants competition Web site at www.grants.lsc.gov.

SUPPLEMENTARY INFORMATION: The Request for Proposals (RFP) is currently available at www.grants.lsc.gov. Applicants are required to use the “Standard RFP Narrative Instruction” to prepare the grant proposal. Applicants must file a Notice of Intent to Compete (NIC) to participate in the competitive grants process. Applicants must file the NIC by October 6, 2014, 5:00 p.m. E.T. Applicants must submit grant proposals by October 24, 2014, 5:00 p.m. E.T. The dates in this notice supersede the dates contained in the RFP.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The RFP, containing the NIC and grant application, guidelines, proposal content requirements, service area descriptions, and specific selection criteria, is available from www.grants.lsc.gov.

LSC will post all updates and/or changes to this notice at www.grants.lsc.gov. Interested parties are asked to visit www.grants.lsc.gov regularly for updates on the LSC competitive grants process.

Dated: September 26, 2014.
Atitaya Rok,
Staff Attorney.

[FR Doc. 2014-23368 Filed 9-30-14; 8:45 am]

BILLING CODE 7050-01-P